DEPARTMENT OF COMMERCE

National Oceanic and Atmospheric Administration

[RTID 0648-XC243]

New England Fishery Management Council; Public Meeting

AGENCY: National Marine Fisheries Service (NMFS), National Oceanic and Atmospheric Administration (NOAA), Commerce.

ACTION: Notice of a public meeting.

SUMMARY: The New England Fishery Management Council's is convening its Scientific and Statistical Committee (SSC) to consider actions affecting New England fisheries in the exclusive economic zone (EEZ). Recommendations from this group will be brought to the full Council for formal consideration and action, if appropriate.

DATES: This meeting will be held on Thursday, August 25, 2022, beginning at 9 a.m.

ADDRESSES:

Meeting address: The meeting will be held at the Hilton Garden Inn, 100 Boardman Street, Boston, MA 02128, (617) 567-6789. Webinar registration information: https://attendee.gotowebinar.com/register/8696674505845597197. Call in information: +1 (562) 247-8422, Access Code: 845-519-294.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scientific and Statistical Committee will meet to review recent stock assessment information from the U.S./Canada Transboundary Resource Assessment Committee and information provided by the Council's Groundfish Plan Development Team and recommend the overfishing level (OFL) and acceptable biological catch (ABC) for Georges Bank yellowtail flounder for the fishing years 2022 and 2023. They will also review stock assessment information from the 2021 Groundfish Management Track Assessment and information provided by the Council's Groundfish Plan Development Team and recommend the overfishing limits and acceptable biological catch (ABC) for Georges Bank (GB) cod for fishing years 2022 and 2023.

Also on the agenda is the review of information provided by the Council's Groundfish Plan Development Team and the results of recent Southern New England/Mid-Atlantic (SNE/MA) winter flounder management track stock assessment. Using the Council's acceptable biological catch (ABC) control rules, recommend the overfishing levels (OFL) and the ABCs for SNE/MA winter flounder for fishing years 2023, 2024 and 2025. They will consider other business as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 2, 2022.
Rey Israel Marquez,
Acting Deputy Director, Office of Sustainable Fisheries, National Marine Fisheries Service.

[FR Doc. 2022-16897 Filed 8-5-22; 8:45 am]

BILLING CODE 3510-22-P